DEPARTMENT OF EDUCATION

(CFDA No: 84.184L)

Safe and Drug-Free Schools and Communities National Program; Notice Inviting Applications for New Awards for Fiscal Year (FY) 2001

AGENCY: Office of Elementary and Secondary Education—Safe and Drug-Free Schools and Communities National Programs, Department of Education.

ACTION: Notice inviting applications for new awards for Fiscal Year (FY) 2001.

Purpose of Program: To fund the implementation and enhancement of comprehensive community-wide strategies for creating safe and drug-free schools and promoting healthy childhood development.

Eligible Applicants: Local educational agencies (LEAs).

Applications Available: May 18, 2001.

Deadline for Transmittal of Applications: July 16, 2001.

Deadline for Intergovernmental Review: September 14, 2001.

Estimated Available Funds: $31 million.

Estimated Average Size of Awards: Awards will range from up to $3 million for LEAs in urban areas; up to $2 million for LEAs in suburban areas; and up to $1 million for LEAs in rural areas and tribal school districts.

Estimated Number of Awards: 15.

Note: The Department of Education is not bound by any estimates in this notice.

Project Period: Up to 36 months.

Applicable Regulations: (a) The Education Department General Administrative Regulations (EDGAR) in 34 CFR parts 74, 75 (except 75.102), 77, 79, 80, 81, 82, 85, 98, and 99; and (b) the notice of final priority and selection criteria as published elsewhere in this issue of the Federal Register.

For Applications and Further Information Contact:

For applications and further information, please contact the agencies as follows:

U.S. Department of Education, Safe and Drug-Free Schools Program

Internet: http://www.ed.gov./offices/OESE/SDFS

Phone: (202) 260-3954

U.S. Department of Health and Human Services, Substance Abuse and Mental Health Services Administration

Internet: http://www.samhsa.gov

Phone: (800) 789-2647

U.S. Department of Justice, Office of Juvenile Justice and Delinquency Prevention

Internet: http://www.ojjdp.ncjrs.org

Phone: (202) 307-5911

If you use a telecommunications device for the deaf (TDD), you may call the Federal Information Relay Service (FIRS) at (800) 877-8339.

Individuals with disabilities may obtain a copy of this document in an alternative format (e.g., Braille, large print, audiotape, or computer diskette) upon request. Individuals with disabilities may also obtain a copy of the application package in an alternative format by contacting that person. However, the Departments are not able to reproduce in an alternative format the standard forms included in the application package.

Instructions for Transmittal of Applications

All applications must be received by 5 p.m. Eastern Standard Time on or before the deadline date. Applications received after that time will not be eligible for funding. Postmarked dates will not be accepted. Applications by mail should be sent to: Office of Juvenile Justice and Delinquency Prevention, c/o Juvenile Justice Resource Center, 2277 Research Boulevard, Mail Stop 2K, Rockville, MD 20850; 301-519-5535. In the lower left-hand corner of the envelope, clearly write “Safe Schools/Healthy Students Initiative.”

Electronic Access to This Document

You may view this document in text or Adobe Portable Document Format (PDF) on the Internet at the following sites:

http://ocof.ed.gov/fedreg.htm

http://www.ed.gov/news.htm

http://www.ed.gov/offices/OESE/SDFS

http://www.ojjdp.ncjrs.org

http://www.samhsa.gov

To use PDF, you must have the Adobe Acrobat Reader, which is available free at any of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.htm

Program Authority: 20 U.S.C. 7131.

Dated: May 14, 2001.
Thomas M. Corwin,
Acting Deputy Assistant Secretary for Elementary and Secondary Education.

[FR Doc. 01-12558 Filed 5-17-01; 8:45 am]

BILLING CODE 4000-01-U